DEPARTMENT OF ENERGY

Federal Energy Regulatory Commission

[Docket No. IC16-2-000]

Commission Information Collection Activities (FERC-538, FERC-740, FERC-729, FERC-715, FERC-592, FERC-60, FERC-61, and FERC-555A); Consolidated Comment Request; Extension

AGENCY: Federal Energy Regulatory Commission, DOE.

ACTION: Notice of information collections and request for comments.

SUMMARY: In compliance with the requirements of the Paperwork Reduction Act of 1995, 44 U.S.C. 3506(c)(2)(A), the Federal Energy Regulatory Commission (Commission or FERC) is soliciting public comment on the requirements and burden ¹ of the information collections described below.

¹ The Commission defines burden as the total time, effort, or financial resources expended by persons to generate, maintain, retain, or disclose or provide information to or for a Federal agency. For further explanation of what is included in the information collection burden, reference 5 Code of Federal Regulations 1320.3.

DATES: Comments on the collections of information are due January 4, 2016.

ADDRESSES: You may submit comments (identified by Docket No. IC16-2-000) by either of the following methods:

• eFiling at Commission's Web site: http://www.ferc.gov/docs-filing/efiling.asp.

• Mail/Hand Delivery/Courier: Federal Energy Regulatory Commission, Secretary of the Commission, 888 First Street NE., Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-538, Gas Pipelines Certificates: Sections 7(a) Mandatory Initial Service

OMB Control No.: 1902-0061.

Abstract: Under sections 7(a), 10(a) and 16 of Natural Gas Act (NGA),² upon application by a person or municipality authorized to engage in the local distribution of natural gas, the Commission may order a natural gas company to extend or improve its transportation facilities, and sell natural gas to the municipality or person and, for such purpose, to extend its transportation facilities to communities immediately adjacent to such facilities or to territories served by the natural gas pipeline company. The Commission uses the application data in order to be fully informed concerning the applicant, and the service the applicant is requesting.

² 15 U.S.C. 717f-w.

Type of Respondent: Persons or municipalities authorized to engage in the local distribution of natural gas.

Estimate of Annual Burden: The Commission estimates the annual public reporting burden for the information collection as:

³ The estimates for cost per response are derived using the following formula: Average Burden Hours per Response * $72.00 per Hour = Average Cost per Response. The hourly cost figure comes from the FERC average salary of $149,489/year.

FERC-538—Gas Pipeline Certificates: Section 7(a) Mandatory Initial Service
| Number of respondents | Annual number of responses per respondent | Total number of responses | Average burden & cost per response ³ | Total annual burden hours & total annual cost | Cost per respondent ($)
| (1) | (2) | (1)*(2)=(3) | (4) | (3)*(4)=(5) | (5)÷(1)
Gas Pipeline Certificates | 1 | 1 | 1 | 240 $17,280 | 240 $17,280 | $17,280

FERC-740, Availability of e-Tag Information to Commission Staff

OMB Control No.: 1902-0254.

Abstract: In Order 771,⁴ the FERC-740 information collection (providing Commission staff access to e-Tag data) was implemented to provide the Commission, Market Monitoring Units (MMUs), Regional Transmission Organizations (RTOs), and Independent System Operators (ISOs) with information that allows them to perform market surveillance and analysis more effectively. The e-Tag information is necessary to understand the use of the interconnected electricity grid, particularly transactions occurring at interchanges. Due to the nature of the electricity grid, an individual transaction's impact on an interchange cannot be assessed adequately in all cases without information from all connected systems, which is included in the e-Tags. The details of the physical path of a transaction included in the e-Tags helps the Commission to monitor, in particular, interchange transactions effectively, detect and prevent price manipulation over interchanges, and ensure the efficient and orderly use of the transmission grid. For example, the e-Tag data allows the Commission to identify transmission reservations as they go from one market to another and link the market participants involved in that transaction.

⁴ Order 771 was issued in Docket No. RM11-12 (77 FR 76367, 12/28/2012).

Order No. 771 provided the Commission access to e-Tags by requiring that Purchasing-Selling Entities ⁵ (PSEs) and Balancing Authorities (BAs), list the Commission on the “CC” list of e-Tags so that the Commission can receive a copy of the e-Tags. The Commission accesses the e-Tags by contracting with a commercial vendor, OATI. In early 2014, the North American Energy Standards Board (NAESB) incorporated the requirement that the Commission be added to the “CC” list on e-Tags as part of the tagging process.⁶ Even before NAESB added the FERC requirement to the tagging standards, the rules behind the “CC” list requirement had already been programmed into the industry standard tagging software so as to make the inclusion of FERC in the “CC” list automatic. The Commission expects that PSEs and BAs will continue to use existing, automated procedures to create and validate the e-Tags in a way that provides the Commission with access to them. In the rare event that a new BA would need to alert e-Tag administrators that certain tags it generates qualify for exemption under the Commission's regulations (e.g., transmissions from a new Canadian BA into another Canadian BA), this administrative function would be expected to require less than an hour of effort total from both the BA and an e-Tag administrator to include the BA on the exemption list. New exempt BAs occur less frequently than every year, but for the purpose of estimation we will conservatively assume one appears each year creating an additional burden associated with the Commission's FERC-740 requirement of $60.59.⁷

⁵ A Purchasing-Selling Entity is the entity that purchases or sells, and takes title to, energy, capacity, and Interconnected Operations Services. Purchasing-Selling Entities may be affiliated or unaffiliated merchants and may or may not own generating facilities. Purchasing-Selling Entities are typically E-Tag Authors.

⁶ NAESB Electronic Tagging Functional Specifications, Version 1.8.2.

⁷ The estimated hourly cost (salary plus benefits) provided in this section is based on the figures for May 2014 posted by the Bureau of Labor Statistics for the Utilities sector (available at http://www.bls.gov/oes/current/naics2_22.htm#13-0000) assuming:

• 15 minutes legal (code 23-0000), $129.87 hourly

• 45 minutes information and record clerk (code 43-4199), $37.50 hourly.

Type of Respondent: Purchasing-Selling Entities and Balancing Authorities.

Estimate of Annual Burden: The Commission estimates the annual public reporting burden (rounded) for the information collection as:

FERC-740—Availability of e-Tag Information to Commission Staff
FERC-740 | Number of respondents | Annual number of responses per respondent | Total number of responses | Average burden hours & cost per response | Total annual burden hours & total annual cost | Cost per respondent ($)
| (1) | (2) | (1)*(2)=(3) | (4) | (3)*(4)=(5) | (5)÷(1)
Purchasing-Selling Entities (e-Tag Authors) | 369 | 4,404 | 1,625,326 | 0 | 0 | $0
Balancing Authorities | 101 | 16,092 | 1,625,326 | 0 | 0 | 0
New Balancing Authority [as noted above] | 1 | 1 | 1 | 1 hr.; $60.59 | 1 hr.; $60.59 | 60.59
Total | 470 |  |  |  | 1 hr.; $60.59 | 60.59

FERC-729, Electric Transmission Facilities

OMB Control No.: 1902-0238.

Abstract: This information collection implements the Commission's mandates under EPAct 2005 section 1221 which authorizes the Commission to issue permits under FPA section 216(b) for electric transmission facilities and the Commission's delegated responsibility to coordinate all other federal authorizations under FPA section 216(h). The related FERC regulations seek to develop a timely review process for siting of proposed electric transmission facilities. The regulations provide for (among other things) an extensive pre-application process that will facilitate maximum participation from all interested entities and individuals to provide them with a reasonable opportunity to present their views and recommendations, with respect to the need for and impact of the facilities, early in the planning stages of the proposed facilities as required under FPA section 216(d).

Additionally, FERC has the authority to issue a permit to construct electric transmission facilities if a state has withheld approval for more than a year or has conditioned its approval in such a manner that it will not significantly reduce transmission congestion or is not economically feasible.⁸ FERC envisions that, under certain circumstances, the Commission's review of the proposed facilities may take place after one year of the state's review. Under section 50.6(e)(3) the Commission will not accept applications until one year after the state's review and then from applicants who can demonstrate that a state may withhold or condition approval of proposed facilities to such an extent that the facilities will not be constructed.⁹ In cases where FERC's jurisdiction rests on FPA section 216(b)(1)(C),¹⁰ the pre-filing process should not commence until one year after the relevant State applications have been filed. This will give states one full year to process an application without any intervening Federal proceedings, including both the pre-filing and application processes. Once that year is complete, an applicant may seek to commence FERC's pre-filing process. Thereafter, once the pre-filing process is complete, the applicant may submit its application for a construction permit.

⁸ FPA section 216(b)(1)(C).

⁹ However, the Commission will not issue a permit authorizing construction of the proposed facilities until, among other things, it finds that the state has, in fact, withheld approval for more than a year or had so conditioned its approval.

¹⁰ In all other instances (i.e. where the state does not have jurisdiction to act or otherwise to consider interstate benefits, or the applicant does not qualify to apply for a permit with the State because it does not serve end use customers in the State), the pre-filing process may be commenced at any time.

Type of Respondent: Electric transmission facilities.

Estimate of Annual Burden: The Commission estimates the annual public reporting burden for the information collection as:

FERC-729—Electric Transmission Facilities
| Number of respondents | Annual number of responses per respondent | Total number of responses | Average burden & cost per response ¹¹ | Total annual burden hours & total annual cost | Cost per respondent ($)
| (1) | (2) | (1)*(2)=(3) | (4) | (3)*(4)=(5) | (5)÷(1)
Electric Transmission Facilities | 1 | 1 | 1 | 9,600 $691,200 | 9,600 $691,200 | $691,200

¹¹ The estimates for cost per response are derived using the following formula: Average Burden Hours per Response * $72.00 per Hour = Average Cost per Response. The hourly cost figure comes from the FERC average salary of $149,489/year.

FERC-715, Annual Transmission Planning and Evaluation Report

OMB Control No.: 1902-0171

Abstract: Acting under FPA section 213,¹² FERC requires each transmitting utility that operates integrated transmission system facilities rated above 100 kilovolts (kV) to submit annually:

¹² 16 U.S.C. 824l.

• Contact information for the FERC-715;

• Base case power flow data (if it does not participate in the development and use of regional power flow data);

• Transmission system maps and diagrams used by the respondent for transmission planning;

• A detailed description of the transmission planning reliability criteria used to evaluate system performance for time frames and planning horizons used in regional and corporate planning;

• A detailed description of the respondent's transmission planning assessment practices (including, but not limited to, how reliability criteria are applied and the steps taken in performing transmission planning studies); and

• A detailed evaluation of the respondent's anticipated system performance as measured against its stated reliability criteria using its stated assessment practices.

The FERC-715 enables the Commission to use the information as part of their regulatory oversight functions which includes:

• The review of rates and charges;

• The disposition of jurisdictional facilities;

• The consolidation and mergers;

• The adequacy of supply and;

• Reliability of nation's transmission grid

The FERC-715 enables the Commission to facilitate and resolve transmission disputes. Additionally, the Office of Electric Reliability (OER) uses the FERC-715 data to help protect and improve the reliability and security of the nation's bulk power system. OER oversees the development and review of mandatory reliability and security standards and ensures compliance with the approved standards by the users, owners, and operators of the bulk power system. OER also monitors and addresses issues concerning the nation's bulk power system including assessments of resource adequacy and reliability.

Without the FERC-715 data, the Commission would be unable to evaluate planned projects or requests related to transmission.

Type of Respondent: Integrated transmission system facilities rated at or above 100 kilovolts (kV).

Estimate of Annual Burden: The Commission estimates the annual public reporting burden for the information collection as:

FERC-715—Annual Transmission Planning and Evaluation Report
| Number of respondents | Annual number of responses per respondent | Total number of responses | Average burden & cost per response ¹³ | Total annual burden hours & total annual cost | Cost per respondent ($)
| (1) | (2) | (1)*(2)=3 | (4) | (3)*(4)=(5) | (5)÷(1)
Annual Transmission Planning and Evaluation Report | 115 | 1 | 115 | 160 $11,520 | 18,400 $ 1,324,800 | $11,520
Total |  |  | 115 |  | 18,400 $ 1,324,800 | $11,520

¹³ The estimates for cost per response are derived using the following formula: Average Burden Hours per Response * $72 per Hour = Average Cost per Response. The hourly cost figure comes from the FERC average salary of $149,489. Subject matter experts found that industry employment costs closely resemble FERC's regarding the FERC-715 information collection.

FERC-592: Standards of Conduct for Transmission Provider and Marketing Affiliates of Interstate Pipelines

OMB Control No.: 1902-0157

Type of Request: Three-year extension of the FERC-592 information collection requirements with no changes to the current reporting requirements.

Abstract: The Commission uses the information maintained and posted by the respondents to monitor the pipeline's transportation, sales, and storage activities for its marketing affiliate to deter undue discrimination by pipeline companies in favor of their marketing affiliates. Non-affiliated shippers and other entities (e.g. state commissions) also use information to determine whether they have been harmed by affiliate preference and to prepare evidence for proceedings following the filing of a complaint.

18 CFR Part 358 (Standards of Conduct)

Respondents maintain and provide the information required by part 358 on their internet Web sites. When the Commission requires a pipeline to post information on its Web site following a disclosure of non-public information to its marketing affiliate, non-affiliated shippers obtain comparable access to the non-public transportation information, which allows them to compete with marketing affiliates on a more equal basis.

18 CFR 250.16, and the FERC-592 log/format

This form (log/format) provides the electronic formats for maintaining information on discounted transportation transactions and capacity allocation to support monitoring of activities of interstate pipeline marketing affiliates. Commission staff considers discounts given to shippers in litigated rate cases.

Without this information collection:

• The Commission would be unable to effectively monitor whether pipelines are giving discriminatory preference to their marketing affiliates; and

• non-affiliated shippers and state commissions and others would be unable to determine if they have been harmed by affiliate preference or prepare evidence for proceedings following the filing of a complaint.

Type of Respondents: Natural gas pipelines.

Estimate of Annual Burden: ¹⁴ The Commission estimates the annual public reporting burden for the information collection as:

¹⁴ The Commission defines burden as the total time, effort, or financial resources expended by persons to generate, maintain, retain, or disclose or provide information to or for a Federal agency. For further explanation of what is included in the information collection burden, reference 5 Code of Federal Regulations 1320.3.

FERC-592—Standards for Conduct for Transmission Providers Marketing Affiliates of Interstate Pipelines
| Number of respondents | Annual number of responses per respondent | Total number of responses | Average burden & cost per response ¹⁵ | Total annual burden hours & total annual cost | Cost per respondent ($)
| (1) | (2) | (1)*(2)=(3) | (4) | (3)*(4)=(5) | (5)÷(1)
FERC 592 ¹⁶ | 85 | 1 | 85 | 116.62 $8,396 | 9,913 $713,736 | $8,396

¹⁵ The estimates for cost per response are derived using the FERC average salary of $149,489/year (or $72.00/hour). Commission staff finds that the work done for this information collection is typically done by wage categories similar to those at FERC.

¹⁶ The requirements for this collection are contained in 18 CFR part 358 and 18 CFR part 250.16.

FERC-60 (Annual Report of Centralized Service Companies), FERC-61 (Narrative Description of Service Company Functions), and FERC-555A (Preservation of Records Companies and Service Companies Subject to PUHCA)

OMB Control No.: 1902-0215.

Abstract: On August 8, 2005, the Energy Policy Act of 2005, was signed into law, repealing the Public Utility Holding Company Act of 1935 (PUHCA 1935) and enacting the Public Utility Holding Company Act of 2005 (PUHCA 2005). Section 1264 ¹⁷ and section 1275 ¹⁸ of PUHCA 2005 supplemented FERC's existing ratemaking authority under the Federal Power Act (FPA) to protect customers against improper cross-subsidization or encumbrances of public utility assets, and similarly, FERC's ratemaking authority under the Natural Gas Act (NGA). These provisions of PUHCA 2005 supplemented the FERC's broad authority under FPA section 301 and NGA section 8 to obtain the books and records of regulated companies and any person that controls or is under the influence of such companies if relevant to jurisdictional activities.

¹⁷ Federal Books and Records Access Provision.

¹⁸ Non-Power Goods and Services Provision.

FERC Form 60

Form No. 60 is an annual reporting requirement under 18 CFR 366.23 for centralized service companies. The report's function is to collect financial information (including balance sheet, assets, liabilities, billing and charges for associated and non-associated companies) from centralized service companies subject to the jurisdiction of the FERC. Unless Commission rule exempts or grants a waiver pursuant to 18 CFR 366.3 and 366.4 to the holding company system, every centralized service company in a holding company system must prepare and file electronically with the FERC the Form No. 60, pursuant to the General Instructions in the form.

FERC-61

FERC-61 is a filing requirement for service companies in holding company systems (including special purpose companies) that are currently exempt or granted a waiver of FERC's regulations and would not have to file FERC Form 60. Instead, those service companies are required to file, on an annual basis, a narrative description of the service company's functions during the prior calendar year (FERC-61). In complying, a holding company may make a single filing on behalf of all of its service company subsidiaries.

FERC-555A

FERC prescribed a mandated preservation of records requirements for holding companies and service companies (unless otherwise exempted by FERC). This requires them to maintain and make available to FERC, their books and records. The preservation of records requirement provides for uniform records retention by holding companies and centralized service companies subject to PUHCA 2005.

Data from the FERC Form 60, FERC-61, and FERC-555A provide a level of transparency that: (1) Helps protect ratepayers from pass-through of improper service company costs, (2) enables FERC to review and determine cost allocations (among holding company members) for certain non-power goods and services, (3) aids FERC in meeting its oversight and market monitoring obligations, and (4) benefits the public, both as ratepayers and investors. In addition, the FERC's audit staff used these records during compliance reviews and special analyses.

If data from the FERC Form 60, FERC-61, and FERC-555A were not available, FERC would not be able to meet its statutory responsibilities, under EPAct 1992, EPAct of 2005, and PUHCA 2005, and FERC would not have all of the regulatory mechanisms necessary to ensure customer protection.

Type of Respondent: Electric transmission facilities

Estimate of Annual Burden: The Commission estimates the annual public reporting burden for the information collection as:

FERC-60 (Annual Report of Centralized Service Companies), FERC-61 (Narrative Description of Service Company Functions), & FERC-555A (Preservation of Records Companies and Service Companies Subject to PUHCA)
| Number of respondents | Annual number of responses per respondent | Total number of responses | Average burden & cost per response | Total annual burden hours & total annual cost | Cost per respondent ($)
| (1) | (2) | (1)*(2)=(3) | (4) | (3)*(4)=(5) | (5)÷(1)
FERC-60 ¹⁹ | 39 | 1 | 39 | 75 $4,280 | 2,925 $166,929 | $4,280
FERC-61 ²⁰ | 100 | 1 | 100 | 0.5 $18.75 | 50 $1,875 | 18.75
FERC-555A ²¹ | 100 | 1 | 100 | 1,080 $33,480 | 108,000 $3,348,000 | 33,480
Total |  |  |  | 1155.50 $37,779 | 110,975 $3,516,804 | 37,779

¹⁹ For the FERC-60 the $57.00 (rounded from $57.07) hourly cost figure comes from the average cost of an management analyst (Occupation Code 13-1111) and an accountant (Occupation Code 13-2011) as posted on the Bureau of Labor Statistics (BLS) Web site (http://www/bls.gov/oes/current/naics2_22.htm).

²⁰ For the FERC-61 the $37.50 hourly cost figure comes from the cost of a records clerk (Occupation Code 43-4199) as posted on the BLS Web site (http://www/bls.gov/oes/current/naics2_22.htm).

²¹ For the FERC-555 the $31.00 hourly cost figure (rounded from $30.71) comes from the cost of a file clerk (Occupation Code 43-4071) as posted on the BLS Web site (http://www/bls.gov/oes/current/naics2_22.htm).

The total estimated annual cost burden to respondents is $3,516,262 [$166,725 (FERC Form 60) + $1,537.00 (FERC-61) + $3,348,000 (FERC-555A) = $3,516,600].

FERC Form 60: 2,925 hours * $57.07/hour = $166,929.00.

FERC-61: 50 hours * $37.50/hour = $1,875.

FERC-555A: ²²

²² Internal analysis assumes 50% electronic and 50% paper storage.

• Labor costs for paper storage: 108,000 hours * $31.00/hours = $3,348,000

• Record Retention/storage cost for paper storage (using an estimate of 6,000 ft³): $38,763.75

• Electronic record retention/storage cost: $2,335,500 [108,000 hours ÷ 2 = 54,000 * $28.00/hour ²³ = $1,512,000; electronic record storage cost: 54,000 hours * $15.25/year ²⁴ = $823,500; total electronic record storage: $2,335,500].

²³ The Commission bases the $28/hour figure on a FERC staff study that included estimating public utility recordkeeping costs.

²⁴ Per entity; the Commission bases this figure on the estimated cost to service and to store 1 GB of data (based on the aggregated cost of an IBM advanced data protection server).

Dated: October 28, 2015.
Kimberly D. Bose,
Secretary.

[FR Doc. 2015-28086 Filed 11-3-15; 8:45 am]

BILLING CODE 6717-01-P